DEPARTMENT OF HEALTH AND HUMAN SERVICES

Centers for Disease Control and Prevention

[CDC-2014-0014, Docket Number NIOSH-275]

Proposed National Total Worker Health™ Agenda

AGENCY: National Institute for Occupational Safety and Health (NIOSH) of the Centers for Disease Control and Prevention (CDC), Department of Health and Human Services (HHS).

ACTION: Notice of opportunity to provide oral comments at three town-hall sessions, and the opportunity to provide written comments.

SUMMARY: The National Institute for Occupational Safety and Health (NIOSH) of the Centers for Disease Control and Prevention (CDC) announces the opportunity for comment on the Proposed National Total Worker Health™ Agenda. To view the Agenda and submit written comments, visit, www.regulations.gov, and enter CDC-2014-0014 in the search field and click “Search.” There is also an opportunity to submit oral comments at one of three town-hall sessions during the following two scientific meetings: The 1st International Symposium to Advance Total Worker Health™ and The Healthier Federal Workers Conference. For information on how to register for the conferences and town-hall sessions see the Supplementary Section. All comments are welcome, but NIOSH specifically seeks those that address the following questions:

• Do you see your own organization's goals reflected in the Proposed National Total Worker Health™ Agenda?

• What are the bridges between your own work and the Proposed National Total Worker Health™ Agenda?

• Are there any missing components or gaps in the Proposed National Total Worker Health™ Agenda?

DATES:

Meeting date and time:

(1) October 6-8, 2014; 2 town-hall sessions: October 7, 2014, 12:30-1:45 p.m. Eastern Time and 5-6:15 p.m. Eastern Time

(2) October 9, 2014, 1:15-2:30 p.m. Eastern Time

Registration to speak: Participants who wish to speak during one of the town-hall sessions must register by sending an email to stamers@cdc.gov by October 1, 2014.

Public comment period: Comments must be received by December 22, 2014.

ADDRESSES: Both meetings will be held at the National Institutes of Health, Natcher Conference Center (Bldg. 45), 9000 Rockville Pike, Bethesda, Maryland 20892.

Security Considerations: Due to mandatory security clearance procedures, in-person attendees must present valid government-issued picture identification (passport for non-U.S. citizens) to security personnel upon entering the NIH Campus.

You may submit comments, identified by CDC-2014-0014 and Docket Number NIOSH-275, by one of the following three methods:

• Internet: http://www.regulations.gov. Enter CDC-2014-0014 in the search field and click “Search.”

• Mail: National Institute for Occupational Safety and Health, NIOSH Docket Office, 1090 Tusculum Avenue, MS C-34, Cincinnati, Ohio 45226-1998. Identify the submission for NIOSH Docket-275.

• In-person: Only individuals who are registered for one and/or both conferences and one of three town-hall sessions will have the opportunity to provide oral public comment.

Instructions: All information received in response to this notice must include the agency name and docket number [CDC-2014-0014; NIOSH-275]. All electronic comments should be formatted as Microsoft Word. All comments received will be posted without change to http://www.regulations.gov, including any personal information provided. All information received in response to this notice will also be available for public examination and copying at the NIOSH Docket Office, 1150 Tusculum Avenue, Room 109, Cincinnati, OH 45226-1998.

FOR FURTHER INFORMATION CONTACT: Sara L. Tamers, Ph.D. MPH, NIOSH/CDC, Telephone: (202) 245-0677, Fax: (202) 245-0664, STamers@cdc.gov.

SUPPLEMENTARY INFORMATION: Attendance: The town-hall sessions, and oral comments during the town-hall sessions, are open to participants who have registered and paid to attend one or both of the conferences, limited only by the capacity of the conference room (up to 140 participants).

Information on the conferences and town-hall sessions:

• The 1st International Symposium to Advance Total Worker Health™ (October 6-8, 2014; 2 town-hall sessions: October 7, 2014, 12:30-1:45 p.m. Eastern Time and 5-6:15 p.m. Eastern Time): http://www.eagleson.org/conferences/total-worker-health.

• The Healthier Federal Workers Conference (October 8-10, 2014; 1 town-hall session: October 9, 2014, 1:15-2:30 p.m. Eastern Time): http://www.eagleson.org/conferences/healthier-federal-workers-2014.

Registration for both conferences may be done up until the day of each conference.

Registration to speak: Participants who wish to speak during one of the town-hall sessions must register by sending an email to stamers@cdc.gov by October 1, 2014. Each speaker will have 5 minutes to speak. It is recommended that the speaker not read written comments, but rather highlight critical points in the written material that should be submitted to the docket. Please note that you may only sign up for one town-hall session. An email confirming registration will be sent from NIOSH and will include details needed to participate. Oral comments made at the meeting will be recorded and included in docket NIOSH-275. All relevant comments received will be posted without change to NIOSH-275 including any personal information provided.

Background: Total Worker Health™ is a strategy integrating occupational safety and health protection with health promotion to prevent worker injury and illness and to advance health and well-being. The town-hall sessions will be forums for NIOSH to receive stakeholder input on the draft National Total Worker Health™ Agenda. This Agenda is meant to stimulate innovative research, practical applications, policy guidance, and capacity building of Total Worker Health™ practitioners to improve workplace practices as they relate to Total Worker Health™. For more information, visit: http://www.cdc.gov/niosh/TWH/.

Dated: September 15, 2014.
John Howard,
Director, National Institute for Occupational Safety and Health, Centers for Disease Control and Prevention.

[FR Doc. 2014-22465 Filed 9-22-14; 8:45 am]

BILLING CODE 4163-19-P